DEPARTMENT OF HEALTH AND HUMAN SERVICES

Centers for Disease Control and Prevention

[Program Announcement 01186]

Landmine and War-Related Trauma Awareness Program; Notice of Availability of Funds

A. Purpose

The Centers for Disease Control and Prevention (CDC) announces the availability of fiscal year (FY) 2001 funds for a cooperative agreement program to develop, implement, and evaluate diverse activities addressing landmine and war-related trauma (physical injury and mental health) directly and indirectly caused by war, including the evaluation of mine awareness programs in current and former conflict-affected countries. This program addresses the “Healthy People 2010” focus areas of Injury and Violence Prevention and Environmental Health.

The purpose of the program is to establish a better understanding of the burden of landmine and other war-related trauma, particularly on women and children globally; to evaluate, using existing data, mine awareness and other war-associated injury prevention programs; and to develop and distribute best practices applicable to mine awareness and other conflict-related injury prevention programs.

No human subjects research may be conducted under this program announcement.

B. Eligible Applicant

Assistance will be provided only to The United Nations Children's Fund (UNICEF). No other applications are solicited.

UNICEF is the most appropriate and qualified organization for conducting activities under this program because:

UNICEF is the United Nations organization tasked with taking the lead on mine awareness. UNICEF is also the United Nations organization tasked with the protection of health and human rights of women and children. Therefore, UNICEF provides a unique opportunity to evaluate current mine awareness and other war-associated injury prevention programs.

UNICEF has a singularly high level of expertise and experience in mine awareness programs and working with women and children affected by conflict.

UNICEF is the leader in the international community as a provider of data about and support to women and children affected by war, giving it the resources and contacts to implement this program.

Note: Title 2 of the United States Code, Chapter 26, section 1611, states that an organization described in section 501(c)(4) of the Internal Revenue Code of 1986 that engages in lobbying activities is not eligible to receive Federal funds constituting an award, grant, cooperative agreement, contract, loan, or any other form.

C. Availability of Funds

Approximately $175,000 is available in FY 2001 to fund this award. It is expected that the award will begin on or about September 30, 2001, and will be made for a 12-month budget period within a project period of up to three years. Funding estimates may change.

Continuation awards within an approved project period will be made on the basis of satisfactory progress as evidenced by required reports and the availability of funds.

D. Where To Obtain Additional Information

This and other CDC announcements can be found on the CDC home page Internet address—http://www.cdc.gov Click on “Funding” then “Grants and Cooperative Agreements.”

To obtain business management technical assistance, contact: Sharron Orum, Grants Management Specialist, Grants Management Branch, Procurement and Grants Office, Centers for Disease Control and Prevention, 2920 Brandywine Road, Room 3000, Atlanta, GA 30341-4146, Telephone number: (770) 488-2716, Email address: SPO2@cdc.gov.

For program technical assistance, contact: Marilyn DiSirio, International Emergency and Refugee Health Branch, Division of Emergency and Environmental Health Services, National Center for Environmental Health, Centers for Disease Control and Prevention, 4770 Buford Highway (F-48), Atlanta, GA 30341, Telephone number: (770) 488-4024, Email address: mdisirio@cdc.gov.

Dated: July 24, 2001.
John L. Williams,
Director, Procurement and Grants Office, Centers for Disease Control and Prevention (CDC).

[FR Doc. 01-18863 Filed 7-27-01; 8:45 am]

BILLING CODE 4163-18-P